DEPARTMENT OF COMMERCE

International Trade Administration

(A-588-703)

Internal-Combustion Forklift Trucks from Japan; Final Results of the Expedited Sunset Review of the Antidumping Duty Order

AGENCY: Import Administration, International Trade Administration, Department of Commerce.

SUMMARY: On March 1, 2005, the Department of Commerce (“the Department”) initiated a sunset review of the antidumping duty order on internal-combustion forklift trucks from Japan pursuant to section 751(c) of the Tariff Act of 1930, as amended (“the Act”). The Department conducted an expedited (120-day) sunset review of this order. As a result of this sunset review, the Department finds that revocation of the antidumping duty order would be likely to lead to continuation or recurrence of dumping. The dumping margins are identified in the Final Results of Review section of this notice.

EFFECTIVE DATE: October 6, 2005.

FOR FURTHER INFORMATION CONTACT: David Layton or David Goldberger, AD/CVD Operations, Office 1, Import Administration, International Trade Administration, U.S. Department of Commerce, 14th Street & Constitution Avenue, NW, Washington, DC 20230; telephone: (202) 482-0371 and (202) 482-0182, respectively.

SUPPLEMENTARY INFORMATION:

Background:

On March 1, 2005, the Department published the notice of initiation of the second sunset review of the antidumping duty order covering internal-combustion forklift trucks from Japan pursuant to section 751(c) of the Act. See Initiation of Five-year (Sunset) Reviews, 70 FR 9919 (March 1, 2005). On May 16, 2005, the Department extended the period of time for making its determination by 90 days pursuant to section 751(c)(5)(B) of the Act. See Extension of Time Limits for the Final Results of Sunset Reviews of Antidumping and Countervailing Duty Orders, 70 FR 25808 (May 16, 2005). The Department received the Notice of Intent to Participate from NACCO Materials Handling Group, Inc. (NMHG), a domestic interested party, within the deadline specified in section 351.218(d)(1)(i) of the Department's regulations (Sunset Regulations). NMHG claimed interested party status under section 771(9)(C) of the Act, as a manufacturer of the domestic like product in the United States.

We received complete substantive responses from NMHG within the 30-day deadline specified in 19 CFR 351.218(d)(3)(i). We received no responses from the respondent interested parties. As a result, pursuant to section 751(c)(3)(B) of the Act and 19 CFR 351.218(e)(1)(ii)(C)(2), the Department conducted an expedited (120-day) sunset review of this order.

Scope of the Order

The products covered by this order are certain internal-combustion, industrial forklift trucks, with lifting capacity of 2,000 to 15,000 lbs. Imports of these products were classified under item numbers 692.4025, 692.4030, and 692.4070 of the Tariff Schedules of the United States Annotated (TSUSA) and are currently classifiable under Harmonized System (HTSUS) item numbers 8427.20.00, 8427.90.00, and 8431.20.00. Although the HTSUS item numbers are provided for convenience and customs purposes, the written description remains dispositive.

The products covered by this order are further described as follows: Assembled, not assembled, and less than complete, finished and not finished, operator-riding forklift trucks powered by gasoline, propane, or diesel fuel internal-combustion engines of off-the-highway types used in factories, warehouses, or transportation terminals for short-distance transport, towing, or handling of articles. Less than complete forklift trucks are defined as imports which include a frame by itself or a frame assembled with one or more component parts. Component parts of the subject forklift trucks which are not assembled with a frame are not covered by this order.

Products not covered by this order are genuinely used forklifts. For the purposes of this antidumping duty order, we consider any forklift to be used if, at the time of entry into the United States, the importer can demonstrate to the satisfaction of the U.S. Customs and Border Protection (CBP) that the forklift was manufactured in a calendar year at least three years prior to the year of entry into the United States. The importer must show documentation from industrial publications that reconcile the serial number and year of manufacture of the forklift. If the calendar year of manufacture is at least three years prior to its year of entry into the United States, it will not be subject to the suspension of liquidation or any assessment of antidumping duties. For example, if a forklift is entered or withdrawn from warehouse, for consumption in June 1988 and if the importer demonstrates through industrial publications that the forklift was manufactured in or before calendar year 1985, that forklift will not be covered by this order.

Analysis of Comments Received

All issues raised in this review are addressed in the Issues and Decision Memorandum for the Expedited Sunset Review of the Antidumping Duty Order on Internal-Combustion Forklift Trucks from Japan Final Results (Decision Memo) from Barbara E. Tillman, Acting Deputy Assistant Secretary for Import Administration, to Holly A. Kuga, Acting Assistant Secretary for Import Administration, dated September 27, 2005, which is hereby adopted by this notice. The issues discussed in the Decision Memo include the likelihood of continuation or recurrence of dumping and the magnitude of the margins likely to prevail if the order were to be revoked. Parties can find a complete discussion of all issues raised in these reviews and the corresponding recommendations in this public memorandum which is on file in room B-099 of the main Commerce building.

In addition, a complete version of the Decision Memo can be accessed directly on the Web at http://ia.ita.doc.gov/frn. The paper copy and electronic version of the Decision Memo are identical in content.

Final Results of Review

We determine that revocation of the antidumping duty order on internal-combustion forklift trucks from Japan would be likely to lead to continuation or recurrence of dumping at the following weighted-average percentage margins:

Manufacturers/Exporters/Producers | Weighted Average Margin (percent)
Toyota Motor Corp | 47.79
Nissan Motor Co., Ltd | 51.33
Komatsu Forklift Co., Ltd | 47.50
Sumitomo-Yale Co., Ltd | 51.33
Toyo Umpanki Co., Ltd | 51.33
Sanki Industrial Co., Ltd | 13.65
Kasagi Forklift, Inc | 56.81
All Others | 39.45

This notice also serves as the only reminder to parties subject to administrative protective orders (“APO”) of their responsibility concerning the return or destruction of proprietary information disclosed under APO in accordance with 19 CFR 351.305 of the Department's regulations. Timely notification of the return or destruction of APO materials or conversion to judicial protective orders is hereby requested. Failure to comply with the regulations and terms of an APO is a violation which is subject to sanction.

We are issuing and publishing the results and notice in accordance with sections 751(c), 752, and 777(i)(1) of the Act.

Dated: September 27, 2005.
Holly A. Kuga,
Acting Assistant Secretary for Import Administration.

[FR Doc. E5-5517 Filed 10-5-05; 8:45 am]

BILLING CODE 3510-DS-S